SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions to OMB-approved information collections and a collection in use without an OMB number.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than May 24, 2011. Individuals can obtain copies of the collection instruments by calling the SSA Reports Clearance Officer at 410-965-8783 or by writing to the above e-mail address.

1. Supplemental Security Income (SSI)—Quality Review Case Analysis—0960-0133. To assess the SSI program and ensure the accuracy of its payments, SSA conducts legally mandated periodic SSI case analysis quality reviews. SSA uses Form SSA-8508 to conduct these reviews, collecting information on operating efficiency, the quality of underlying policies, and the effect of incorrect payments. SSA also uses the data to determine SSI program payment accuracy rates, which is a performance measure for the agency's service delivery goals. The respondents are recipients of SSI payments selected for the quality reviews.

Type of Request: Revision of an OMB-approved information collection.

Form | Number of respondents | Frequency of response | Response time (minutes) | Estimated annual burden (hours)
SSA-8508-BK (paper interview) | 225 | 1 | 60 | 225
SSA-8508-BK (electronic) | 4,275 | 1 | 60 | 4,275
Totals | 4,500 |  |  | 4,500

2. Information Collections Conducted by State Disability Determination Services (DDS) on Behalf of SSA—20 CFR, subpart P, 404.1503a, 404.1512, 404.1513, 404.1514 404.1517, 404.1519; 20 CFR subpart Q, 404.1613, 404.1614, 404.1624; 20 CFR subpart I, 416.903a, 416.912, 416.913, 416.914, 416.917, 416.919 and 20 CFR subpart J, 416.1013, 416.1024, 416.1014—0960-0555. State DDSs collect the information necessary to administer the Social Security Disability Insurance (SSDI) and SSI programs. They collect medical evidence from consultative exam (CE) sources, credential information from CE source applicants, and Medical Evidence of Record (MER) from claimants' medical sources. The DDSs collect information from claimants regarding medical treatment and pain/symptoms. The respondents are medical providers, other sources of MER, and disability claimants.

Type of Request: Revision of an OMB-approved information collection.

CE Collections

There are two collections from CE providers: (a) Medical evidence about claimants' medical condition(s) that DDSs use to make disability determinations when the claimant's own medical sources cannot or will not provide the required information; and (b) proof of credentials from CE providers.

Collection instrument | Number of respondents | Frequency of response | Average burden per response (minutes) | Estimated annual burden (hours)
(a) Medical Evidence from CE Providers:
Paper Submissions | 100,000 | 1 | 30 | 50,000
Electronic Records Express (ERE) Submissions | 3,500,000 | 1 | 10 | 583,333
Totals | 4,600,000 |  |  | 633,333
(b) CE Credentials:
Paper Submission | 3,000 | 1 | 15 | 750

There are two CE claimant collections: (a) Claimant completion of a response form indicating whether they intend to keep their CE appointment:, and (b) claimant completion of a form indicating whether they want a copy of the CE report sent to their doctor.

Type of CE claimant collection | Number of respondents | Frequency of response | Average burden per response (minutes) | Estimated annual burden (hours)
Appointment Letter | 2,500,000 | 1 | 5 | 208,333
Claimants re: Report to Medical Provider | 1,500,000 | 1 | 5 | 125,000
Totals | 4,000,000 |  |  | 333,333

MER Collections

The DDSs collect MER from the claimant's medical sources to determine the claimant's physical or mental status prior to making a disability determination.

Collection instrument | Number of respondents | Frequency of response | Average burden per response (minutes) | Estimated annual burden (hours)
Paper Submissions | 500,000 | 1 | 15 | 125,000
Electronic and ERE Submissions | 5,500,000 | 1 | 7 | 641,666
Total | 6,000,000 |  |  | 766,666

Pain/Other Symptoms Information from Claimants

The DDSs use information about pain/symptoms to determine how pain/symptoms affect the claimant's ability to do work-related activities prior to making a disability determination.

| Number of respondents | Frequency of response | Average burden per response (minutes) | Estimated annual burden (hours)
Paper Submission | 2,500,000 | 1 | 15 | 625,000

The total combined burden is 2,359,082 hours.

II. SSA submitted the information collections listed below to OMB for clearance. Your comments on the information collections would be most useful if OMB and SSA receive them within 30 days from the date of this publication. To be sure we consider your comments, we must receive them no later than April 25, 2011. You can obtain a copy of the OMB clearance packages by calling the SSA Reports Clearance Officer at 410-965-8783 or by writing to the above e-mail address.

1. Request for Waiver of Overpayment Recovery or Change in Repayment Notice—20 CFR 404.502-404.513, 404.515 and 20 CFR 416.550-416.570, 416.572—0960-0037. When Social Security beneficiaries and SSI recipients receive an overpayment, they must return the amount of the overpayment. These beneficiaries and recipients can use Form SSA-632-BK to take one of three actions: (1) Request an exemption from repaying, as recovery of the overpayment would cause financial hardship; (2) inform SSA they want to repay the overpayment at a monthly rate over a period longer than 36 months; or (3) request a different rate of recovery. In the latter two cases, the respondents must also provide financial information to help the agency determine how much the overpaid person can afford to repay each month. Respondents are overpaid Social Security beneficiaries or SSI recipients who are requesting a waiver of recovery of an overpayment or a lesser rate of withholding.

Type of Request: Revision of an OMB-approved information collection.

Type of request | Number of respondents | Frequency of response | Response time (minutes) | Total burden (hours)
Waiver of Overpayment (Completes Whole Paper Form) | 400,000 | 1 | 120 | 800,000
Change in Repayment (Completes Partial Paper Form) | 100,000 | 1 | 45 | 75,000
Regional Application (NY Debt Management-NYDM) | 44,000 | 1 | 120 | 88,000
Internet Instructions | 500,000 | 1 | 5 | 41,667
Totals | 1,044,000 |  |  | 1,004,667

2. Sheltered Workshop Wage Reporting—0960-0771. Sheltered workshops are nonprofit organizations or institutions that implement a recognized program of rehabilitation for workers who have handicaps, or provide such workers with remunerative employment or other occupational rehabilitating activity of an educational or therapeutic nature. Sheltered workshops perform a service for their clients by reporting monthly wages directly to SSA. SSA uses the information these workshops provide to verify and post monthly wages to the SSI recipient's record. Most workshops report monthly wage totals to their local SSA office so we can adjust the client's SSI payment amount in a timely manner and prevent overpayments. Sheltered workshops are motivated to report wages voluntarily as a service to their clients. Respondents are sheltered workshops that report monthly wages for services performed in the workshop.

Type of Request: Revision of an OMB-approved information collection.

Number of Respondents: 900.

Frequency of Response: 12.

Average Burden Per Response: 15 minutes.

Estimated Annual Burden: 3,000 hours.

3. Request for Medical Treatment in an SSA Employee Health Facility: Patient Self-Administered or Staff-Administered Care—0960-0772. SSA's Employee Health Clinic (EHC) provides emergency care, treatment of on-the-job illnesses and injuries, and health care for employees with chronic medical conditions and allergies who require allergy antigens. SSA also permits employees to use the EHC for self-administration of medical treatments for a chronic health condition. SSA collects information on Form SSA-5072 to approve or deny requests for medical treatment in an SSA EHC. The respondents are the private physicians of the SSA employees seeking medical treatment in an SSA EHC.

Type of Request: Information Collection in Use without an OMB Number.

Medication dosage changes | Number of respondents | Frequency of response | Average burden per response (minutes) | Total annual burden (hours)
Annually | 25 | 1 | 5 | 2
Bi-Annually | 75 | 2 | 5 | 13
Totals | 100 |  |  | 15

Dated: March 22, 2011.
Faye Lipsky,
Reports Clearance Officer, Center for Reports Clearance, Social Security Administration.

[FR Doc. 2011-7123 Filed 3-24-11; 8:45 am]

BILLING CODE 4191-02-P